POSTAL SERVICE

Notice of New System of Records; Response to Comments

AGENCY: Postal Service®.

ACTION: Notice of new system of records; response to comments.

SUMMARY: The United States Postal Service® (USPS) is responding to public comments regarding the creation of a new Customer Privacy Act System of Records (SOR) 845.000, Commercial Mail Receiving Agency (CMRA) Records. This new SOR was created to consolidate all CMRA paper and electronic records under one new and dedicated SOR in support of a future planned initiative to centralize CMRA records into an electronic database and improve the security of the In-Person enrollment process. There will be no changes to the new system of records or to the effective date of September 30, 2022, in light of public comments received.

DATES: The new Customer Privacy Act SOR, USPS 845.000, Commercial Mail Receiving Agency (CMRA) Records, Document Citation 87 FR 53512, was originally scheduled to be effective on September 30, 2022, without further notice. After review and evaluation of comments received, the Postal Service has found that no substantive changes to the system of records is required, and that the effective date for the new SOR should proceed as scheduled to meet Privacy Act requirements.

FOR FURTHER INFORMATION CONTACT: Janine Castorina, Chief Privacy and Records Management Officer, Privacy and Records Management Office, via uspsprivacyfedregnotice@usps.gov.

SUPPLEMENTARY INFORMATION: On August 30, 2022, the Postal Service published a Federal Register notice about its intent to create a new system of records, USPS SOR 845.000, CMRA Records, to provide notice to the public and to support the future planned initiative to centralize CMRA records into an electronic database and improve the security of the In-Person enrollment process. The publication of an SOR in the Federal Register complies with Privacy Act requirements to promote transparency and provide notice to individuals about the maintenance of a System of Records by a Federal agency, including but not limited to information that will be collected and stored, what it will be used for, the authority for collection and usage of the information, how the information may be disclosed and how long it will be retained.

The Postal Service provides the following responses to the comments received pursuant to its Federal Register notice, Document Citation 87 FR 53512, for the creation of the new SOR, USPS 845.000, Commercial Mail Receiving Agency (CMRA) Records. The Postal Service is voluntarily responding to the questions below that are not directly related to the content or effective date of the CMRA SOR, but rather to the future implementation of the new CMRA Customer Registration Database (CRD) program initiative.

Question 1: What is the expected rollout time for implementation of the SOR, and what transition period will be granted to CMRAs to comply with the Notice?

Response: The effective date of the CMRA SOR is separate and distinct from the planned implementation and roll-out dates for the Commercial Mail Receiving Agency (CMRA) Customer Registration Database (CRD) program initiative. Due to the nature and context of the question, the Postal Service interprets this question to ask about the CMRA program. The Postal Service plans to launch the new Commercial Mail Receiving Agency (CMRA) Customer Registration Database (CRD) in the middle of calendar year 2023. The USPS anticipates a 9-month implementation period following an initial pilot.

Question 2: Is the Business Customer Gateway portal ready for usage?

Response: The Business Customer Gateway (BCG) is already an established application. The CMRA CRD is a new application that will launch in the middle of calendar year 2023.

Question 3: How will this (implementation plans) be communicated to the CMRA owners and managers?

Response: Each CMRA owner will receive mailed information from the Postal Service detailing the procedures for registration and access to the new CMRA CRD during the implementation period.

Question 4: We wish to clarify whether under the Notice, only the back end of the CMRA enrollment process will be enhanced by requiring the CMRA to upload the information stated on the USPS Form 1583 to the SOR via the BCG, or will walk-in and Remote Online Notary (RON) procedures be affected as well?

Response: The planned CMRA CRD program initiative does not eliminate the option for walk in or notary certification of PS Form 1583. Instead, the new process disclosed in the CMRA SOR supports the future initiative, which replaces the current paper-based system of record, with an online repository of the information contained on PS Form 1583.

Question 5: Is USPS 845.000 replacing the current notarized USPS Form 1583 process, or will it only enhance the alternative in-person option which shall continue to run alongside the current notarized USPS Form 1583 process?

Response: The CMRA CRD program initiative is replacing the current paper-based system at the Postal Service with an online repository of the information contained on PS Form 1583.

Question 6: Under the Notice, will notarization of the USPS Form 1583 continue to serve as the final requirement for approval of the CMRA account of the customer, or will the enhancement include the USPS applying further supervision for inspection/verification/validation purposes via the SOR to potentially reject enrolled customers who have submitted IDs and a notarized USPS Form 1583?

Response: Notarization of the USPS PS Form 1583 is not a requirement for approval of a CMRA customer account. The notarization of USPS Form 1583 is, and will remain, an option for an applicant of a CMRA customer account who is not able to sign their application in the presence of the CMRA owner/manager.

However, as part of the administration of the CMRA program, the Postal Service will periodically inspect and verify identification documents for accurate data entry and refer inaccurate entries back to the Commercial Mail Receiving Agency (CMRA) for correction. A Private Mailbox (PMB) may be closed for failure to provide accurate identification information or illegal activity.

Question 7: Once the SOR is established and CMRA customer data will be electronically accessible and verifiable to the USPS and CMRA via the SOR and BCG, will the SOR enhancement allow CMRA customers (e.g. people with multiple homes/businesses) to enroll for multiple CMRA accounts at different CMRA locations based upon the original (and valid) ID documentation already approved and uploaded to the SOR for the customer's initial enrollment, or will customers need to notarize a separate USPS Form 1583 and submit IDs for each CMRA account they wish to open?

Response: The CMRA program will require the completion of a separate PS Form 1583 for each rented PMB.

Sarah Sullivan,
Attorney, Ethics & Legal Compliance.

[FR Doc. 2022-27992 Filed 12-22-22; 8:45 am]

BILLING CODE 7710-12-P